DEPARTMENT OF ENERGY

Federal Energy Regulatory Commission

18 CFR Part 40

[Docket No. RM12-4-000; Order No. 777]

Revisions to Reliability Standard for Transmission Vegetation Management; Correction

AGENCY: Federal Energy Regulatory Commission, DOE.

ACTION: Final rule; correction.

SUMMARY: This document contains corrections to the final rule (RM12-4-000) which was published in the Federal Register of Thursday, March 28, 2013 (78 FR 18817). The regulations established procedures with regard to filing and other requirements the North American Electric Reliability Corporation (NERC) needs to submit when modifying certain Reliability Standards.

DATES: Effective on May 28, 2013.

FOR FURTHER INFORMATION CONTACT: Julie Greenisen, (202) 502-6362.

SUPPLEMENTARY INFORMATION:

Errata Notice

On March 21, 2013, the Commission issued “Order No. 777; Final Rule, in the above referenced proceeding. Revisions to Reliability Standard for Transmission Vegetation Management, 142 FERC ¶ 61,208 (2013).

Paragraphs 73 and 77 of the Final Rule indicate that NERC will be required to file modifications to the Violation Risk Factor for Requirement R2 of Reliability Standard FAC-003-2 within 45 days of the effective date of the Final Rule, while Paragraph 5 of the Final Rule indicates that NERC will have 60 days to make that filing. This errata notice serves to correct paragraphs 73 and 77 of the Final Rule, to delete the reference to 45 days and to replace it with the same 60 day deadline as set out in Paragraph 5 of the Final Rule.

In FR Doc. 2013-07113 appearing on page 18817 in the Federal Register of Thursday, March 28, 2013, the following corrections are made:

1. On page 18826, in the third column, in paragraph 73, correct “45 days” to read “60 days”.

2. On page 18827, in the first column, in paragraph 77, correct “45 days” to read “60 days”.

Dated: April 9, 2013.
Nathaniel J. Davis, Sr.,
Deputy Secretary.

[FR Doc. 2013-08640 Filed 4-16-13; 8:45 am]

BILLING CODE 6717-01-P